DEPARTMENT OF COMMERCE

International Trade Administration

[A-307-820]

Silicomanganese From Venezuela: Notice of Postponement of Final Determination of Antidumping Duty Investigation

AGENCY: Import Administration, International Trade Administration, Department of Commerce.

ACTION: Postponement of final determination of antidumping duty investigation.

EFFECTIVE DATE: December 28, 2001.

SUMMARY: The Department of Commerce (the Department) is postponing the final determination in the antidumping duty investigation of silicomanganese from Venezuela.

FOR FURTHER INFORMATION CONTACT: Deborah Scott at (202) 482-2657 or Robert James at (202) 482-0649, Antidumping and Countervailing Duty Enforcement Group III, Import Administration, International Trade Administration, U.S. Department of Commerce, 14th Street and Constitution Avenue, NW., Washington, DC 20230.

Applicable Statute and Regulations

Unless otherwise indicated, all citations to the Tariff Act of 1930, as amended (the Tariff Act), are references to the provisions effective January 1, 1995, the effective date of the amendments made to the Tariff Act by the Uruguay Round Agreements Act. In addition, unless otherwise indicated, all citations to the Department's regulations are to the regulations codified at 19 CFR part 351 (2000).

Postponement of Final Determination and Extension of Provisional Measures

On November 9, 2001, the Department published the affirmative preliminary determination in the investigation of silicomanganese from Venezuela. See Notice of Preliminary Determination of Sales at Less Than Fair Value; Silicomanganese From Venezuela, 66 FR 56,635. Pursuant to section 735(a)(2) of the Tariff Act and 19 CFR 351.210(b)(2)(ii) of the Department's regulations, on December 5, 2001, respondent Hornos Electricos de Venezuela, S.A. (Hevensa) requested the Department extend the deadline for the final determination for the full sixty days, as permitted by the statute and regulations. Hevensa also agreed to the extension of provisional measures (i.e., suspension of liquidation) from a four-month period to a period not to exceed six months, pursuant to 19 CFR 351.210(e)(2).

Section 735(a)(2) of the Tariff Act provides that a final determination may be postponed not later than 135 days after the date of publication of the preliminary determination if, in the event of an affirmative preliminary determination, a request for such postponement is made by exporters who account for a significant proportion of exports of the subject merchandise, or in the event of a negative preliminary determination, a request for such postponement is made by petitioner. The Department's regulations, at 19 CFR 351.210(e)(2) require requests by respondents for postponement of a final determination be accompanied by a request for the extension of provisional measures from a four-month period to not more than six months.

In accordance with 19 CFR 351.210(b)(2)(ii), because (i) our preliminary determination is affirmative, (ii) the respondent requesting postponement accounts for a significant proportion of the exports of the subject merchandise, and (iii) no compelling reasons for denial exist, we are granting Hevensa's request and are postponing the final determination to no later than 135 days after publication of the preliminary determination in the Federal Register. Suspension of liquidation will be extended accordingly. This notice of postponement is published pursuant to 19 CFR 351.210(g).

Dated: December 19, 2001.
Bernard T. Carreau,
Acting Assistant Secretary for Import Administration.

[FR Doc. 01-31907 Filed 12-27-01; 8:45 am]

BILLING CODE 3510-DS-P